DEPARTMENT OF COMMERCE

National Oceanic and Atmospheric Administration

RIN 0648-XA833

Marine Mammals; File No. 10018

AGENCY: National Marine Fisheries Service (NMFS), National Oceanic and Atmospheric Administration (NOAA), Commerce.

ACTION: Notice; issuance of permit amendment.

SUMMARY: Notice is hereby given that a major amendment to Permit No. 10018-01 has been issued to Rachel Cartwright, Ph.D., Keiki Kohola Project, Oxnard, California.

ADDRESSES: The permit amendment and related documents are available for review upon written request or by appointment in the following offices:

Permits and Conservation Division, Office of Protected Resources, NMFS, 1315 East-West Highway, Room 13705, Silver Spring, MD 20910; phone (301)427-8401; fax (301)713-0376; and

Pacific Islands Region, NMFS, 1601 Kapiolani Blvd., Rm 1110, Honolulu, HI 96814-4700; phone (808) 944-2200; fax (808) 973-2941.

FOR FURTHER INFORMATION CONTACT: Carrie Hubard or Kristy Beard, (301) 427-8401.

SUPPLEMENTARY INFORMATION: On November 21, 2011, notice was published in the Federal Register (76 FR 71938) that a request for an amendment Permit No. 10018-01 to conduct research on humpback whales (Megaptera novaeangliae) had been submitted by the above-named applicant. The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 10018, issued on June 18, 2008 (73 FR 36042) and amended on July 14, 2010 (75 FR 43150), authorizes Dr. Cartwright to conduct humpback whale research, consisting of photo-identification, focal follows, underwater observations, and collection of sloughed skin, in Hawaiian and Alaskan waters from May through September each year. The permit has been amended to authorize the deployment of suction cup satellite tags to a maximum of 18 females in female-calf pairs. Tagging may only occur in Hawaii. The purposes of the tagging activities are to: (1) Verify the impact of research vessels during boat based behavioral follows and (2) further understand how female-calf pairs use breeding ground habitat, potentially identifying key resting regions and establishing the degree to which female-calf pairs circulate within vs. move between specific favored female-calf regions. Although the amendment request originally included attaching six implantable satellite tags to yearling humpback whales, this portion of the request was withdrawn by the applicant is not included in the amended permit. The amended permit expires on June 30, 2013.

A supplemental environmental assessment (SEA) analyzing the effects of the permitted activities on the human environment was prepared in compliance with the National Environmental Policy Act of 1969 (42 U.S.C. 4321 et seq.). Based on the analyses in the SEA, NMFS determined that issuance of the permit would not significantly impact the quality of the human environment and that preparation of an environmental impact statement was not required. That determination is documented in a Finding of No Significant Impact (FONSI), signed on May 9, 2013.

As required by the ESA, issuance of this permit was based on a finding that such permit: (1) Was applied for in good faith; (2) will not operate to the disadvantage of such endangered species; and (3) is consistent with the purposes and policies set forth in section 2 of the ESA.

Dated: May 28, 2013.
P. Michael Payne,
Chief, Permits and Conservation Division, Office of Protected Resources, National Marine Fisheries Service.

[FR Doc. 2013-12977 Filed 5-31-13; 8:45 am]

BILLING CODE 3510-22-P